DEPARTMENT OF ENERGY

Federal Energy Regulatory Commission

[Docket No. RP98-43-000]

Anadarko Gathering Co. and Anadarko Natural Gas Co.; Notice of Settlement Conference

April 9, 2002.

Pursuant to rule 601 of the Commission's rules of practice and procedure, 18 CFR 385.601, a settlement conference in the above docketed proceeding will be held on April 19, 2002, to address the outstanding Kansas ad valorem tax issues. The conference will be held in first floor hearing room of the offices of the Kansas Corporation Commission, 1500 Southwest Arrowhead Road, Topeka, Kansas, 66604. The settlement conference will begin at 9 a.m.

Steven A. Rothman, acting for the Dispute Resolution Service, will mediate the conference. He will be available to communicate in private with any party prior to the conference. If a party has any questions regarding the conference, please call Steve Rothman at (202) 208-2278 or send an e-mail to Steven.Rothman@ferc.gov. Parties may also communicate with Richard Miles, the Director of the Commission's Dispute Resolution Service at 1(877) FERC-ADR (337-2237) or (202) 208-0702 and his e-mail address is Richard.Miles@ferc.gov.

Magalie R. Salas,
Secretary.

[FR Doc. 02-9031 Filed 4-12-02; 8:45 am]

BILLING CODE 6717-01-P